DEPARTMENT OF COMMERCE

National Oceanic and Atmospheric Administration

15 CFR Part 922

RIN 0648-BC26

Gulf of the Farallones and Monterey Bay National Marine Sanctuaries Regulations on Introduced Species; Notification of Effective Date

AGENCY: Office of National Marine Sanctuaries (ONMS), National Oceanic and Atmospheric Administration (NOAA), Department of Commerce (DOC).

ACTION: Notification of effective date.

SUMMARY: NOAA published a final rule to prohibit the introduction of introduced species into the state waters of Gulf of the Farallones and Monterey Bay national marine sanctuaries, and to revise the corresponding sanctuary terms of designation on February 19, 2015 (80 FR 8778). Pursuant to Section 304(b) of the National Marine Sanctuaries Act (16 U.S.C. 1434(b)) the final regulations take effect after 45 days of continuous session of Congress beginning on February 19, 2015. Through this notification, NOAA is announcing the regulations became effective on May 15, 2015.

DATES: The regulations published on February 19, 2015 (80 FR 8778) are effective as of May 15, 2015.

FOR FURTHER INFORMATION CONTACT: Dave Lott, Regional Operations Coordinator, West Coast Region, Office of National Marine Sanctuaries, 99 Pacific Street, STE 100F, Monterey, CA 93940. (831) 647-1920.

SUPPLEMENTARY INFORMATION: On February 19, 2015, NOAA finalized regulations that prohibit the introduction of introduced species into the state waters of Gulf of the Farallones and Monterey Bay national marine sanctuaries (80 FR 8778). Those regulations became effective on May 15, 2015.

Dated: May 14, 2015.
Christopher C. Cartwright,
Associate Assistant Administrator for Management and CFO/CAO, Ocean Services and Coastal Zone Management.

[FR Doc. 2015-12186 Filed 5-28-15; 8:45 am]

BILLING CODE 3510-NK-P